DEPARTMENT OF VETERANS AFFAIRS

[OMB Control No. 2900-NEW]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments for information needed to identify individuals at risk for stress-related illnesses.

DATES: Written comments and recommendations on the proposed collection of information should be received on or before June 12, 2000.

ADDRESSES: Submit written comments on the collection of information to Ann W. Bickoff, Veterans Health Administration (193B1), Department of Veterans Affairs, 810 Vermont Avenue, NW, Washington, DC 20420. Please refer to “OMB Control No. 2900-NEW” in any correspondence.

FOR FURTHER INFORMATION CONTACT: Ann W. Bickoff (202) 273-8310 or FAX (202) 273-9381.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Study of Individuals at Risk for Stress Related Illness, VA Form 10-21036(NR).

OMB Control Number: 2900-NEW.

Type of Review: New collection.

Abstract: This survey collection is intended for the development of “psychological and biomedical measurements for early identification of individuals at risk for stress-related illness.” VA proposes to design and validate a psychometrically sound inventory of psychosocial risk and resilience factors that will be empirically related to self-reported physical and mental health and health-related quality of life in Gulf War veterans. The inventory will include assessments of multiple dimensions of war-zone stress, predeployment vulnerabilities, and reentry-postwar circumstances.

Affected Public: Individuals or households.

Estimated Annual Burden: 525 hours.

Estimated Average Burden Per Respondent: 45 minutes.

Frequency of Response: One time.

Estimated Number of Respondents: 700.

Dated: March 17, 2000.
Donald L. Neilson,
Director, Information Management Service.

[FR Doc. 00-8975 Filed 4-10-00; 8:45 am]

BILLING CODE 8320-01-P